DEPARTMENT OF ENERGY

Federal Energy Regulatory Commission

[Docket Nos. PR08-30-000, PR07-12-003, and PR07-12-004]

Enterprise Texas Pipeline LLC; Notice of Technical Conference

March 18, 2009.

Take notice that the Commission will convene a technical conference in the above-captioned proceeding on Tuesday, April 14, 2009, at 10 a.m. (EDT), in a room to be designated at the offices of the Federal Energy Regulatory Commission (Commission), 888 First Street, NE., Washington, DC. 20426.

The Commission's February 27, 2009 Order in the above-captioned proceeding,¹ directed that a technical conference be held to discuss Enterprise Texas Pipeline LLC's (Enterprise Texas) proposed incremental rates for firm and interruptible transportation services and the issues raised with respect to the Statement of Operating Conditions. At the conference, Commission Staff and interested persons will have the opportunity to discuss all of the issues raised by Enterprise Texas's filing including, but not limited to, technical, engineering and operational issues; rate and cost issues; and any issues raised in the protests and data requests. Enterprise Texas should be prepared to address all the concerns raised in the protests, to discuss answers to the data requests, to discuss technical, engineering and operational issues, to discuss rate and cost issues, and to provide, as necessary, additional support for its filing.

¹ Enterprise Texas Pipeline LLC, 126 FERC ¶ 61,183 (2009).

FERC conferences are accessible under section 508 of the Rehabilitation Act of 1973. For accessibility accommodations please send an e-mail to accessibility@ferc.gov or call toll free (866) 208-3372 (voice) or 202-502-8659 (TTY), or send a fax to 202-208-2106 with the required accommodations.

All interested parties and staff are permitted to attend. For further information please contact Rita Johnson at (202) 502-6518 or e-mail at Rita.Johnson@FERC.gov.

Kimberly D. Bose,
Secretary.

[FR Doc. E9-6499 Filed 3-24-09; 8:45 am]

BILLING CODE